DEPARTMENT OF ENERGY

Federal Energy Regulatory Commission

Combined Notice of Filings #1

April 27, 2010.

Take notice that the Commission received the following electric rate filings:

Docket Numbers: ER06-560-008.

Applicants: Credit Suisse Energy LLC.

Description: Notice of Non-Material Change in Status of Credit Suisse Energy LLC.

Filed Date: 04/26/2010.

Accession Numbers: 20100426-5092.

Comment Date: 5 p.m. Eastern Time on Monday, May 17, 2010.

Docket Numbers: ER06-739-026; ER02-537-029; ER03-983-026; ER06-738-026; ER07-501-026; ER07-758-022; ER08-649-018.

Applicants: Cogen Technologies Linden Venture, L.P., Fox Energy Company LLC, Birchwood Power Partners, L.P., Shady Hills Power Company, L.L.C., East Coast Power Linden Holding, LLC, EFS Parlin Holdings LLC, Inland Empire Energy Center, LLC.

Description: Notice of Non-Material Change in Status and Request for Waiver of East Coast Power Linden Holding, LLC, et al.

Filed Date: 04/26/2010.

Accession Numbers: 20100426-5124.

Comment Date: 5 p.m. Eastern Time on Monday, May 17, 2010.

Docket Numbers: ER10-662-001.

Applicants: CER Generation, LLC.

Description: Amendment to Application of CER Generation, LLC.

Filed Date: 04/26/2010.

Accession Numbers: 20100426-5113.

Comment Date: 5 p.m. Eastern Time on Thursday, May 6, 2010.

Docket Numbers: ER10-1091-000.

Applicants: Northwestern Wisconsin Electric Company.

Description: Northwestern Wisconsin Electric Co submits proposed rate change to NWEC original FERC Rate Schedule 2.

Filed Date: 04/26/2010.

Accession Numbers: 20100426-0218.

Comment Date: 5 p.m. Eastern Time on Monday, May 17, 2010.

Docket Numbers: ER10-1092-000.

Applicants: Public Service Company of New Mexico.

Description: Public Service Company of New Mexico submits Second Amended and Restated Agreement for Electric Service between PNM's Wholesale Power Marketing Department and Gallup, dated 4/18/2010.

Filed Date: 04/22/2010.

Accession Numbers: 20100426-0217.

Comment Date: 5 p.m. Eastern Time on Thursday, May 13, 2010.

Docket Numbers: ER10-1094-000.

Applicants: PacifiCorp.

Description: PacifiCorp submits Revised Network Integration Transmission Service Agreement dated 4/8/2010 etc.

Filed Date: 04/26/2010.

Accession Numbers: 20100426-0216.

Comment Date: 5 p.m. Eastern Time on Monday, May 17, 2010.

Docket Numbers: ER10-1095-000.

Applicants: Public Service Company of New Mexico.

Description: Public Service Company of New Mexico submits Construction Agreement RS-09-0064, Construction of the Interconnection Association, Inc to facilitate the interconnection of the new PNM Mendoza Substations etc.

Filed Date: 04/26/2010.

Accession Numbers: 20100426-0215.

Comment Date: 5 p.m. Eastern Time on Monday, May 17, 2010.

Docket Numbers: ER10-1096-000.

Applicants: Public Service Company of New Mexico.

Description: Public Service Company of New Mexico submits First revised Service Agreement for Network Integration Transmission Service Agreement et al.

Filed Date: 04/26/2010.

Accession Numbers: 20100426-0214.

Comment Date: 5 p.m. Eastern Time on Monday, May 17, 2010.

Docket Numbers: ER10-1097-000.

Applicants: PBF Power Marketing LLC.

Description: PBF Power Marketing LLC submits tariff filing per 35.12: Initial Market Based Rates to be effective 6/1/2010.

Filed Date: 04/27/2010.

Accession Numbers: 20100427-5006.

Comment Date: 5 p.m. Eastern Time on Tuesday, May 18, 2010.

Docket Numbers: ER10-1098-000.

Applicants: Midwest Independent Transmission System Operator, Inc.

Description: Midwest Independent Transmission System Operator, Inc. submits an Amended and Restated Facilities Construction Agreement among the Midwest ISO etc.

Filed Date: 04/26/2010.

Accession Numbers: 20100427-0203.

Comment Date: 5 p.m. Eastern Time on Monday, May 17, 2010.

Docket Numbers: ER10-1099-000.

Applicants: Southern California Edison Company.

Description: Southern California Edison submits revisions to Exhibit C BLY of the contract with Western Area Power Administration.

Filed Date: 04/26/2010.

Accession Numbers: 20100427-0205.

Comment Date: 5 p.m. Eastern Time on Monday, May 17, 2010.

Docket Numbers: ER10-1100-000.

Applicants: Unitil Power Corporation.

Description: Unitil Power Corp. submits Amended Unitil System Agreement Annual Filing.

Filed Date: 04/23/2010.

Accession Numbers: 20100426-0241.

Comment Date: 5 p.m. Eastern Time on Friday, May 14, 2010.

Docket Numbers: ER10-1101-000.

Applicants: Mint Energy, LLC.

Description: Mint Energy, LLC submits tariff filing per 35.12: Rate Schedule FERC No. 1 to be effective 6/26/2010.

Filed Date: 04/27/2010.

Accession Numbers: 20100427-5044.

Comment Date: 5 p.m. Eastern Time on Tuesday, May 18, 2010.

Docket Numbers: ER10-1102-000.

Applicants: Madison Paper Industries.

Description: Madison Paper Industries submits tariff filing per 35.12: Baseline Filing to be effective 3/1/2009.

Filed Date: 04/27/2010.

Accession Numbers: 20100427-5091.

Comment Date: 5 p.m. Eastern Time on Tuesday, May 18, 2010.

Take notice that the Commission received the following electric securities filings:

Docket Numbers: ES10-36-000.

Applicants: Ameren Energy Generating Company.

Description: Application for Blanket Authorization Under FPA 204 and 18 CFR Part 34 of Ameren Energy Generating Company.

Filed Date: 04/27/2010.

Accession Numbers: 20100427-5039.

Comment Date: 5 p.m. Eastern Time on Tuesday, May 18, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-10349 Filed 5-3-10; 8:45 am]

BILLING CODE 6717-01-P